DEPARTMENT OF COMMERCE

Foreign-Trade Zones Board

[DOCKET 9-2000]

Foreign-Trade Zone 25—Broward County, FL; Application for Subzone Status, Coastal Fuels Marketing, Inc. (Fuel Terminal), Port Everglades, FL

An application has been submitted to the Foreign-Trade Zones Board (the Board) by Broward County, Florida, grantee of FTZ 25, requesting special-purpose subzone status for the fuel distribution terminal of Coastal Fuel Marketing, Inc. (Coastal), located in Port Everglades, Florida. The application was submitted pursuant to the provisions of the Foreign-Trade Zones Act, as amended (19 U.S.C. 81a-81u), and the regulations of the Board (15 CFR part 400). It was formally filed on March 15, 2000.

The Coastal facilities (56.5 acres) are located at 2401 Eisenhower Boulevard, Port Everglades, Florida. The terminal facilities (72 employees), are used for the receipt, storage, blending and distribution of jet fuel, gasoline, crude oil, asphalt, distillates, residual fuels and motor fuel blending stocks for the domestic and foreign markets. Some of the products will be sourced from abroad, or from U.S. refineries under FTZ procedures.

Zone procedures would exempt Coastal from Customs duties and federal excise taxes on exports and on foreign status jet fuel used for international flights. On domestic sales, the company would be able to defer Customs duty payments until the products leave the facility. The application indicates that the savings from FTZ procedures will help improve the facility's international competitiveness.

No specific manufacturing request is being made at this time. Such a request would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is May 22, 2000. Rebuttal comments in response to material submitted during the foregoing period may be submitted during the subsequent 15-day period to June 5, 2000.

A copy of the application and accompanying exhibits will be available for public inspection at each of the following locations:

U.S. Department of Commerce, Export Assistance Center, 200 E. las Olas Blvd. (Sun Sentinel Building), Suite 1600, Ft. Lauderdale, Florida 33301-2284

Office of the Executive Secretary, Foreign-Trade Zones Board, Room 4008, U.S. Department of Commerce, 14th & Pennsylvania Avenue, NW, Washington, DC 20230

Dated: March 16, 2000.
Dennis Puccinelli,
Acting Executive Secretary.

[FR Doc. 00-7093 Filed 3-21-00; 8:45 am]

BILLING CODE 3510-DS-P